DEPARTMENT OF THE INTERIOR

Fish and Wildlife Service

Final Environmental Impact Statement on the White Wind Farm Project in Brookings County, SD

AGENCY: Fish and Wildlife Service, Interior.

ACTION: Notice of availability.

SUMMARY: The U.S. Fish and Wildlife Service (Service) is adopting the Department of Energy (DOE), Western Area Power Administration (WAPA) Final Environmental Impact Statement (EIS) on the White Wind Farm in Brookings County, South Dakota, in support of a right-of-way application submitted by White Wind Farm, LLC.

DATES: Preparation of the Record of Decision will begin no sooner than 30 days from this notice.

ADDRESSES: Copies of the Final EIS are available online at: http://www.fws.gov/madisonwetlands; during office hours at U.S. Fish and Wildlife Service, Madison Wetland Management District, 23520 SD Hwy 19, Madison, South Dakota 57042 (telephone 605-256-2974); or at the Madison Public Library, Madison, South Dakota.

FOR FURTHER INFORMATION CONTACT: Rick Coleman, Assistant Regional Director, National Wildlife Refuge System, Region 6, U.S. Fish and Wildlife Service, P.O. Box 25486, DFC, Denver, Colorado 80225-4712, (303-236-4303).

SUPPLEMENTARY INFORMATION:

Background

Pursuant to the National Environmental Policy Act (NEPA), the DOE, WAPA prepared a Final EIS assessing the impacts of constructing and operating the proposed White Wind Farm which would be enabled by WAPA's execution of an interconnection agreement. A notice of availability of the EIS was originally published in a Federal Register notice dated April 13, 2007. Subsequently, White Wind Farm, LLC., a wholly-owned subsidiary of Navitas Energy, Inc., applied for a right-of-way easement (50 CFR 29.21) for facilities to be constructed on lands where the Service holds an Easement for Waterfowl Habitat Protection. The Service is adopting and recirculating the EIS in accordance with 40 CFR 1506.3.

The EIS presents alternatives and analyzes the anticipated effects of implementing the proposed action including construction of up to 105 2-megawatt wind turbine generators with a net capacity of up to 200 MW. In addition to the wind turbine generators, components of the proposed project include constructing, operating, and maintaining access roads, overhead and underground electric collector lines, a new collection substation, a communication system, and interconnection to WAPA's existing White Substation.

Dated: March 7, 2008.
James J. Slack,
Deputy Regional Director.

[FR Doc. E8-5272 Filed 3-14-08; 8:45 am]

BILLING CODE 4310-55-P